DEPARTMENT OF THE INTERIOR

Geological Survey

Agency Information Collection Activities; Proposals, Submissions, and Approvals

AGENCY: U.S. Geological Survey, Interior.

ACTION: Notice of an extension of an information collection (1028-0090).

SUMMARY: The U.S. Geological Survey is requesting renewal of an existing information collection that received emergency clearance on August 8, 2009. We will ask the Office of Management and Budget (OMB) to approve the information collections (IC) described below. As required by the Paperwork Reduction Act of 1995 (PRA) and as part of our continued effort to reduce paperwork and respondent burden, we invite the general public and other federal agencies to take this opportunity to comment on this IC. We may not conduct or sponsor and a person is not required to respond to a collection of information unless it displays a currently valid OMB control number.

DATES: You must submit comments on or before January 15, 2010.

ADDRESSES: Send your comments on this information collection directly to Phadrea Ponds, Information Collections Clearance Officer, U.S. Geological Survey, 2150-C Center Avenue, Fort Collins, CO 80525 (mail); (970) 226-9230 (fax); or FAX: pponds@usgs.gov (e-mail). Use Information Collection Number 1028-0051 in the subject line.

FOR FURTHER INFORMATION CONTACT: To request additional information please contact William C. Burton at (703) 648-6904 or by mail at U.S. Geological Survey, 926A National Center, Sunrise Valley Drive, Reston, VA 20192.

SUPPLEMENTARY INFORMATION:

I. Abstract

During FY09 and FY10, the Volcano Hazards Program (VHP) will provide funding under the American Recovery and Reinvestment Act (ARRA) for improvement of the volcano and other monitoring systems and other monitoring-related activities that contribute to mitigation of volcano hazards. This notice concerns the collection of information that is sufficient and relevant to evaluate and select proposals for funding under the VHP. We will accept proposals from State geological surveys and academic institutions requesting funds to assist in the monitoring of active volcanoes and to conduct volcano-related research. Financial assistance will be awarded on a competitive basis following the evaluation and ranking of State and academic proposals. VHP proposals will be reviewed by a peer panel of six (6) members. Five (5) members will be Department of the Interior representatives; and one (1) member will be an external representative. To submit a proposal, you must follow the written guideline (that will be made available at http://www.Grants.gov) and complete a project narrative. The application must be submitted via Grants.gov. Grant recipients must complete a final technical report at the end of the project period. Narrative and report guidance is available through http://volcanoes.usgs.gov/ and at http://www.Grants.gov.

II. Data

OMB Control Number: 1028-0090.

Title: Volcano Hazards Program (VHP).

Type of Request: Extension of currently approved collection.

Respondent Obligation: Required to receive benefits.

Frequency of Collection: Annually.

Description of Respondents: State Geological Surveys and academic institutions.

Estimated Number of Annual Responses: 20 applications and 12 final reports.

Estimated Annual Reporting and Recordkeeping “Hour” Burden: 796 hours. We expect to receive approximately 20 applications. It will take each applicant approximately 35 hours to complete the narrative and present supporting documents. This includes the time for project conception and development, proposal writing, reviewing, and submitting the proposal application through Grants.gov (totaling 700 burden hours). We anticipate awarding 12 grants per year. The award recipients must submit a final report at the end of the project. We estimate that it will take approximately 8 hours to complete the requirement for that report (totaling 96 hours).

Estimated Reporting and Recordkeeping “Non-Hour Cost” Burden: There are no “non-hour cost” burdens associated with this collection of information.

III. Request for Comments

We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done. To comply with the public process, we publish this Federal Register notice announcing that we will submit this ICR to OMB for approval. The notice provided the required 60 day public comment period.

Dated: November 5, 2009.
Suzette Kimball,
Associate Director for Geology.

[FR Doc. E9-27421 Filed 11-13-09; 8:45 am]

BILLING CODE 4311-AM-P